DEPARTMENT OF COMMERCE

International Trade Administration

19 CFR Part 351

[Docket No. 200904-0234]

RIN 0625-AB10

Regulations To Improve Administration and Enforcement of Antidumping and Countervailing Duty Laws; Extension of Comment Period To Allow Submissions of Rebuttal Comments and Requirement of Electronic Submission of Comments and Rebuttal Comments

AGENCY: Enforcement and Compliance, International Trade Administration, Department of Commerce.

ACTION: Proposed rule; extension of comment period for rebuttal comments and requirement of electronic submissions.

SUMMARY: The Department of Commerce (Commerce) is extending the comment period for the proposed rule, entitled “Regulations to Improve Administration and Enforcement of Antidumping and Countervailing Duty Laws,” which published in the Federal Register on August 13, 2020, solely to allow parties the opportunity to submit rebuttal comments. During the extension period, parties may only submit rebuttals to comments that were submitted by other parties as of September 14, 2020. Additionally, Commerce will only be able to accept electronically submitted comments following the publication of this document in the Federal Register.

DATES: To be assured of consideration, written comments must be received no later than September 14, 2020, and written rebuttal comments must be received no later than September 28, 2020. The September 14, 2020 deadline for comments on the proposed rule is unchanged. ADDRESSES: Following publication of this document in the Federal Register, submit comments and rebuttal comments only through the Federal eRulemaking Portal at http://www.Regulations.gov, Docket No. ITA-2020-0001. Due to the COVID-19 situation, the Department is not able to accept comments submitted by mail or hand-delivery at this time.

All rebuttal comments submitted during the additional 14-day period permitted by this document will be a matter of public record and will generally be available on the Federal eRulemaking Portal at http://www.Regulations.gov. Commerce will not accept response comments accompanied by a request that part or all of the material be treated confidentially because of its business proprietary nature or for any other reason. Therefore, do not submit confidential business information or otherwise sensitive or protected information.

Any questions concerning the process for submitting comments should be submitted to Enforcement & Compliance (E&C) Communications office at (202) 482-0063 or ECCOMMS@trade.gov.

FOR FURTHER INFORMATION CONTACT: Scott McBride at (202) 482-6292; David Mason at (202) 482-5051; or Jessica Link at (202) 482-1411.

SUPPLEMENTARY INFORMATION: On August 13, 2020 (85 FR 49472), Commerce published a proposed rule entitled “Regulations to Improve Administration and Enforcement of Antidumping and Countervailing Duty Laws” in the Federal Register with a comment period ending no later than September 14, 2020. Commerce has subsequently received requests for two extensions of time—one for comments on the proposed rule and an additional extension for parties to submit comments in response to comments made by other parties on the proposed rule (available on the Federal eRulemaking Portal at http://www.Regulations.gov, Docket No. ITA-2020-0001).

Commerce has determined that no extension of time is warranted for comments on the proposed rule because the existing comment period allows adequate time for interested persons to fully consider the proposal and submit comments. Thus, Commerce will not grant an extension for the submission of such comments.

However, Commerce agrees that the public and the agency would benefit if parties have the opportunity to submit rebuttal comments in response to comments filed by other parties on the proposed rule. Accordingly, Commerce is granting an extension of time solely for the purpose of allowing the public to file such rebuttal comments. Commerce will consider all rebuttal comments submitted by September 28, 2020. Submissions received after September 14, 2020 must respond to comments which were filed on or before that date and should not include original arguments regarding the proposed rule. Otherwise, Commerce will disregard submissions during that period of time in drafting its final rule which do not respond to comments submitted by other parties.

Thus, comments on the proposed rule are due on September 14, 2020. Commerce will not modify this deadline. However, as stated above, Commerce has determined to allow parties to submit rebuttals to comments on the proposed rule that were submitted on or before September 14, 2020. Such rebuttal comments will be due September 28, 2020. Commerce will not consider comments on the proposed rule submitted after September 14, 2020, which are not responsive to comments submitted by other parties on or before September 14, 2020.

Furthermore, although the proposed rule indicated that comments might also be submitted by mail or hand delivery/courier, due to the COVID-19 situation Commerce will not be able to receive such submissions. Accordingly, from the date of publication of this document in the Federal Register, all comments and rebuttal comments must be submitted through the Federal eRulemaking Portal at http://www.Regulations.gov.

Dated: September 4, 2020.
Jeffrey I. Kessler,
Assistant Secretary for Enforcement and Compliance.

[FR Doc. 2020-20037 Filed 9-9-20; 8:45 am]

BILLING CODE 3510-DS-P